DEPARTMENT OF ENERGY

National Nuclear Security Administration

Notice of Availability of the Final Site-Wide Environmental Impact Statement for the Y-12 National Security Complex

AGENCY: National Nuclear Security Administration, U.S. Department of Energy.

ACTION: Notice of availability.

SUMMARY: The National Nuclear Security Administration (NNSA), a semi-autonomous agency within the Department of Energy (DOE), announces the availability of the Final Site-Wide Environmental Impact Statement for the Y-12 National Security Complex (Final Y-12 SWEIS, DOE/EIS-0387). The Final Y-12 SWEIS analyzes the potential environmental impacts of ongoing and future operations and activities at Y-12, including alternatives for changes to site infrastructure and levels of operation (using production capacity as the key metric for comparison), and addresses public comments received on the Draft SWEIS and the Wetlands Assessment related to the proposed Haul Road extension corridor. Five alternatives are analyzed: No Action Alternative (maintain the status quo); Uranium Processing Facility (UPF) Alternative; Upgrade-in-Place Alternative; Capability-sized UPF Alternative; and the No Net Production/Capability-sized UPF Alternative. DOE NNSA has prepared the Final Y-12 SWEIS in accordance with the National Environmental Policy Act (NEPA), the Council on Environmental Quality (CEQ) regulations that implement the procedural provisions of NEPA (40 CFR parts 1500-1508), and DOE regulations implementing NEPA (10 CFR part 1021). NNSA's Preferred Alternative for Y-12, as identified in the Draft and Final SWEIS, is the Capability-sized UPF Alternative.

DATES: NNSA will not issue any Record of Decision (ROD) based on the SWEIS before 30 days have passed from the publication of the Environmental Protection Agency's notice of availability.

ADDRESSES: Requests for additional information on the Final Y-12 SWEIS, including requests for copies of the document, should be directed to: Ms. Pam Gorman, Y-12 SWEIS Document Manager, Y-12 Site Office, 800 Oak Ridge Turnpike, Suite A-500, Oak Ridge, TN 37830, or by telephone: 865-576-9903. Additional information on the Y-12 SWEIS may be found at http://www.y12sweis.com.

For general information regarding the DOE NEPA process, contact: Ms. Carol M. Borgstrom, Director, Office of NEPA Policy and Compliance, GC-54, U.S. Department of Energy, 1000 Independence Ave., SW., Washington, DC 20585, telephone 202-586-4600, or leave a message at 1-800-472-2756. Additional information regarding DOE NEPA activities and access to many of DOE's NEPA documents are available on the Internet through the DOE NEPA Web site at http://www.nepa.energy.gov/.

SUPPLEMENTARY INFORMATION: The continued operation of Y-12 is critical to DOE NNSA's Stockpile Stewardship Program and to preventing the spread and use of nuclear weapons worldwide. However, continued operation of Y-12 is made more difficult by the fact that most of the facilities at Y-12 are old, oversized, and inefficient. Because NNSA is required to maintain the safety and security of the Nation's nuclear weapons stockpile, and Y-12 is an important part of this effort, all alternatives assumed that NNSA will continue to operate Y-12 as part of the Nation's nuclear security enterprise for the foreseeable future. A brief description of the SWEIS alternatives follows.

Alternative 1: The No Action Alternative reflects the current nuclear weapons program missions at Y-12. Under the No Action Alternative, operations at Y-12 would continue to support the programs described in the SWEIS. The No Action Alternative includes certain construction projects that are underway or planned for the future. These projects include refurbishments or upgrades to plant systems, such as those for potable water, which have been analyzed in separate NEPA documentation.

Alternative 2: Under the UPF Alternative, NNSA would construct and operate a new UPF, (approximately 388,000 sq. ft.) which would consolidate enriched uranium operations into an integrated manufacturing facility;

Alternative 3: Under the Upgrade- in-Place Alternative, NNSA would upgrade existing facilities to contemporary environmental, safety, and security standards to the extent possible within the limitations of the existing structures and without prolonged interruptions of manufacturing operations.

Alternative 4: Under the Capability-sized UPF Alternative, NNSA would build a smaller UPF, (approximately 350,000 sq. ft.) compared to the UPF described under Alternative 2. A smaller UPF would maintain all capabilities, but would support a reduced production level.

Alternative 5: Under the No Net Production/Capability-sized UPF Alternative, NNSA would build a smaller UPF (approximately 350,000 sq. ft.) compared to the UPF described under Alternative 2. This smaller UPF would maintain all capabilities, but would support an even further reduced production level than Alternative 4.

A Complex Command Center (CCC), which would house equipment and personnel for the plant shift superintendent, Fire Department, and Emergency Operations Center, is also analyzed as a proposed action in all action alternatives (alternatives 2, 3, 4, and 5).

The Draft SWEIS was issued in October 2009 for public review and comment over a 90-day period. NNSA considered all comments received on the Draft SWEIS in preparing the Final SWEIS. The Final SWEIS includes: (1) A detailed wetlands assessment related to construction of a proposed Haul Road extension corridor that would affect wetlands; and (2) NNSA's responses to all comments received, including those received on the wetlands assessment.

Subsequent Document Preparation: NNSA will consider the environmental impact analysis presented in the Final Y-12 SWEIS, along with other information, in making decisions regarding the continued operation of Y-12. NNSA will not issue any RODs for at least 30 days following publication in the Federal Register of the Environmental Protection Agency's notice of availability. NNSA will publish all RODs in the Federal Register.

Signed in Washington, DC on February 25, 2011.
Thomas P. D'Agostino,
Administrator, National Nuclear Security Administration.

[FR Doc. 2011-4987 Filed 3-3-11; 8:45 am]

BILLING CODE 6450-01-P